DEPARTMENT OF TRANSPORTATION

Federal Aviation Administration

14 CFR Part 39

[Docket No. FAA-2005-22039; Directorate Identifier 2005-NE-33-AD; Amendment 39-15950; AD 2009-14-01]

RIN 2120-AA64

Airworthiness Directives; Turbomeca S.A. Arrius 2F Turboshaft Engines

AGENCY: Federal Aviation Administration (FAA), Department of Transportation (DOT).

ACTION: Final rule.

SUMMARY: The FAA is superseding an existing airworthiness directive (AD) for Turbomeca S.A. Arrius 2F turboshaft engines that have not incorporated Turbomeca Modification Tf75. That AD currently requires replacing the O-ring on the check valve piston in the lubrication unit at repetitive intervals. This AD requires the same repetitive replacements and would require incorporating Modification Tf75 as terminating action to the repetitive O-ring replacements. Modification Tf75 replaces the check valve piston with a piston design not requiring an O-ring. This AD results from the European Aviation Safety Agency (EASA) and Turbomeca S.A. mandating the incorporation of Modification Tf75. We are issuing this AD to prevent an uncommanded in-flight shutdown of the engine, which could result in a forced autorotation landing and damage to the helicopter.

DATES: This AD becomes effective August 3, 2009. The Director of the Federal Register approved the incorporation by reference of certain publications listed in the regulations as of August 3, 2009.

ADDRESSES: You can get the service information identified in this AD from Turbomeca S.A., 40220 Tarnos, France; e-mail: noria-dallas@turbomeca.com; telephone 33 05 59 74 40 00, fax 33 05 59 74 45 15, or go to: http://www.turbomeca-support.com.

The Docket Operations office is located at Docket Management Facility, U.S. Department of Transportation, 1200 New Jersey Avenue, SE., West Building Ground Floor, Room W12-140, Washington, DC 20590-0001.

FOR FURTHER INFORMATION CONTACT: James Lawrence, Aerospace Engineer, Engine Certification Office, FAA, Engine and Propeller Directorate, 12 New England Executive Park, Burlington, MA 01803; e-mail: james.lawrence@faa.gov; telephone (781) 238-7176; fax (781) 238-7199.

SUPPLEMENTARY INFORMATION: The FAA proposed to amend 14 CFR part 39 by superseding AD 2005-17-17R1, Amendment 39-14940 (72 FR 6925, February 14, 2007), with a proposed AD. The proposed AD applies to Turbomeca S.A. Arrius 2F turboshaft engines that have not incorporated Turbomeca Modification Tf75. We published the proposed AD in the Federal Register on January 22, 2009 (74 FR 3978). That action proposed to require replacing the O-ring on the check valve piston in the lubrication unit at repetitive intervals and to require incorporating Modification Tf75 as terminating action to the repetitive O-ring replacements.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is provided in the ADDRESSES section. Comments will be available in the AD docket shortly after receipt.

Comments

We provided the public the opportunity to participate in the development of this AD. We received no comments on the proposal or on the determination of the cost to the public.

Change to the Mandatory Terminating Action Compliance Time

Since we issued the proposed AD, we realized that there is no direct relationship between the mandatory terminating action compliance date in the proposed AD and the usage rate of the affected helicopters. We changed the AD to require the terminating action be done within 150 flight hours after the effective date of this AD.

Conclusion

We have carefully reviewed the available data and determined that air safety and the public interest require adopting the AD with the change described previously. We have determined that this change will neither increase the economic burden on any operator nor increase the scope of the AD.

Costs of Compliance

We estimate that this AD will affect 94 Arrius 2F turboshaft engines installed on helicopters of U.S. registry. We also estimate that it will take about one work-hour per engine to perform an O-ring replacement, and about one work-hour to incorporate Modification Tf75. The average labor rate is $80 per work-hour. Required parts will cost about $16 per engine for O-ring replacement, and about $20 per engine for incorporating Modification Tf75. Based on these figures, we estimate the total cost of the AD to U.S. operators to be $18,424.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a summary of the costs to comply with this AD and placed it in the AD Docket. You may get a copy of this summary at the address listed under ADDRESSES.

List of Subjects in 14 CFR Part 39

Air transportation, Aircraft, Aviation safety, Incorporation by reference, Safety.

Adoption of the Amendment

Accordingly, under the authority delegated to me by the Administrator, the Federal Aviation Administration amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-14940 (72 FR 6925, February 14, 2007), and by adding a new airworthiness directive, Amendment 39-15950, to read as follows:

2009-14-01 Turbomeca S.A: Amendment 39-15950. Docket No. FAA-2005-22039; Directorate Identifier 2005-NE-33-AD.

Effective Date

(a) This airworthiness directive (AD) becomes effective August 3, 2009.

Affected ADs

(b) This AD supersedes AD 2005-17-17R1, Amendment 39-14940.

Applicability

(c) This AD applies to Turbomeca S.A. Arrius 2F turboshaft engines that have not incorporated modification Tf75. These engines are installed on, but not limited to, Eurocopter EC120B helicopters.

Unsafe Condition

(d) This AD results from the European Aviation Safety Agency (EASA) and Turbomeca S.A. mandating the incorporation of Modification Tf75. The actions specified in this AD are intended to prevent an uncommanded in-flight shutdown of the engine, which could result in a forced autorotation landing and damage to the helicopter.

Compliance

(e) You are responsible for having the actions required by this AD performed within the compliance times specified unless the actions have already been done.

O-ring Replacement

(f) Replace the O-ring on the check valve piston in the lubrication unit at the intervals specified in Table 1 of this AD. Use the Instructions to be Incorporated paragraphs 2.A. through 2.C.(2) of Turbomeca Alert Service Bulletin No. A319 79 4802, Update No. 1, dated April 3, 2006, to replace the O-ring.

Table 1—Compliance Times for O-ring Replacement
If the class of oil is: | Then replace the O-ring by the later of: | Thereafter, replace the O-ring within:
(1) HTS or unknown. | 300 hours time-since-new (TSN) or 50 hours after March 21, 2007 (effective date of AD 2005-17-17R1). | 300 hours time-since-last replacement (TSR).
(2) STD. | 450 hours TSN or 50 hours after March 21, 2007 (effective date of AD 2005-17-17R1). | 500 hours TSR.

Mandatory Terminating Action

(g) Within 150 flight hours after the effective date of this AD, do the following mandatory terminating action to the repetitive O-ring replacements:

(1) Incorporate Turbomeca Modification Tf75 by replacing the check valve piston in the lubrication unit, with a check valve piston requiring no O-ring.

(2) Use the Instructions to be Incorporated paragraphs 2.A. through 2.B.(1)(r) of Turbomeca Mandatory Service Bulletin No. 319 79 4075, Version B, dated May 14, 2008, to replace the check valve piston.

Alternative Methods of Compliance

(h) The Manager, Engine Certification Office, FAA, has the authority to approve alternative methods of compliance for this AD if requested using the procedures found in 14 CFR 39.19.

Related Information

(i) EASA AD 2008-0170, dated September 25, 2008, also addresses the subject of this AD.

(j) Contact Turbomeca S.A., 40220 Tarnos, France; e-mail: noria-dallas@turbomeca.com; telephone 33 05 59 74 40 00, fax 33 05 59 74 45 15, or go to: http://www.turbomeca-support.com, for a copy of the service information identified in this AD.

(k) Contact James Lawrence, Aerospace Engineer, Engine Certification Office, FAA, Engine and Propeller Directorate, 12 New England Executive Park, Burlington, MA 01803; e-mail: james.lawrence@faa.gov; telephone (781) 238-7176; fax (781) 238-7199, for more information about this AD.

Material Incorporated by Reference

(l) You must use the service information specified in the following Table 2 to perform the actions required by this AD. The Director of the Federal Register approved the incorporation by reference of the documents listed in the following Table 2 in accordance with 5 U.S.C. 552(a) and 1 CFR part 51. Contact Turbomeca S.A., 40220 Tarnos, France; e-mail: noria-dallas@turbomeca.com; telephone 33 05 59 74 40 00, fax 33 05 59 74 45 15, or go to: http://www.turbomeca-support.com, for a copy of this service information. You may review copies at the FAA, New England Region, 12 New England Executive Park, Burlington, MA; or at the National Archives and Records Administration (NARA). For information on the availability of this material at NARA, call 202-741-6030, or go to: http://www.archives.gov/federal-register/cfr/ibr-locations.html.

Table 2—Incorporation by Reference
Turbomeca Alert/Mandatory Service Bulletin No. | Page | Update/version | Date
A319 79 4802, Total Pages: 7 | ALL | Update No. 1 | April 3, 2006.
319 79 4075, Total Pages: 9 | ALL | Version B | May 14, 2008.

Issued in Burlington, Massachusetts, on June 19, 2009.
Francis A. Favara,
Manager, Engine and Propeller Directorate, Aircraft Certification Service.

[FR Doc. E9-15099 Filed 6-26-09; 8:45 am]

BILLING CODE 4910-13-P